DEPARTMENT OF HEALTH AND HUMAN SERVICES

Health Resources and Services Administration

Agency Information Collection Activities: Public Comment Request; Nurse Faculty Loan Program—Program Specific Data Form, Annual Performance Report Financial Data Form and NFLP Due Diligence Form OMB No. 0915-0314 Revision

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than May 8, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at 301-594-4394.

SUPPLEMENTARY INFORMATION: Nurse Faculty Loan Program—Program Specific Data Form, Annual Performance Report Financial Data Form and Nurse Faculty Loan Program Due Diligence Form OMB No. 0915- 0314 Revision.

Abstract: This clearance request is for approval of the Nurse Faculty Loan Program (NFLP)—Program Specific Data Form, NFLP—Annual Performance Report (APR) Financial Data Form, and the NFLP Due Diligence Form. The Program Specific Data Form and the NFLP-APR Financial Data Form are currently approved under OMB Approval No. 0915-0314, with the expiration date of August 31, 2023. The NFLP Due Diligence Form is a new form. HRSA seeks to use the NFLP Due Diligence Form for recipients to formally notify HRSA of any write-off amounts due to uncollectible debt and loan cancellation due to death and permanent/total disability. For program efficiency, HRSA is adding the new NFLP Due Diligence Form to the current NFLP ICR under OMB No. 0915-0314.

Need and Proposed Use of the Information: Section 846A of the Public Health Service Act provides the Secretary of HHS with the authority to enter into agreements with accredited schools of nursing for the establishment and operation of student loan funds to increase the number of qualified nurse faculty. Under the agreements, HRSA makes awards to accredited schools of nursing and the schools provide loans to students enrolled in advanced education nursing degree programs who are committed to becoming nurse faculty. Following graduation from the NFLP grant recipient school, NFLP borrowers may receive up to 85 percent NFLP loan cancellation over a 4-year period in exchange for service as full-time faculty at a school of nursing. The NFLP grant recipient school collects any portion of the loan that is not cancelled and any loans that go into repayment and deposits these monies into the NFLP loan fund to make additional NFLP loans.

The NFLP—Program Specific Data Form is a required electronic attachment within the NFLP application materials. The data provided in the form is essential for the formula-based criteria used to determine the award amount to the applicant schools. The form collects application related data from applicants such as the amount requested, number of students to be funded, tuition information, and projected unused loan fund balance. This data collection assists HRSA in streamlining the application submission process, enabling an efficient award determination process, and facilitating reporting on the use of funds and analysis of program outcomes. There have been no changes to this form.

The NFLP-APR Financial Data Form is an online form that exists in the HRSA Electronic Handbooks Performance Report module. The NFLP-APR Financial Data Form collects outcome and financial data to capture the NFLP loan fund account activity related to financial receivables, disbursements, and borrower account data related to employment status, loan cancellation, loan repayment and collections. NFLP grant recipient schools will provide HHS with current and cumulative information on: (1) NFLP loan funds received, (2) number and amount of NFLP loans made, (3) number and amount of loans cancelled, (4) number and amount of loans in repayment, (5) loan default rate percent, (6) number of NFLP graduates employed as nurse faculty, and (7) other related loan fund costs and activities. NFLP grant recipient schools must keep records of all NFLP loan fund transactions. The NFLP-APR Financial Data Form is used to monitor grantee performance by collecting information related to the NFLP loan fund operations and financial activities for a specified reporting period (July 1 through June 30 of the academic year). NFLP grant recipient schools are required to complete and submit the NFLP-APR Financial Data Form annually. The data provided in the form is essential for HRSA to effectively monitor the school's use of NFLP funds in accordance with the statute and program guidelines. There have been no changes to this form.

The NFLP Due Diligence Form will be a required form to be completed and submitted electronically by NFLP grant recipient schools. This form indicates that due diligence has been exercised in the cancellation of any remaining loan funds for NFLP borrowers due to permanent/total disability, death, and uncollectible/bad debt write offs. The data collected on the due diligence form will include the student borrowers unique ID number, reason for cancelation, the amount of principal loaned, the total amount of principal loan funds and corresponding interest canceled, and the outstanding amount of principal/interest being canceled or written-off. The NFLP Due Diligence Form is essential for monitoring performance measure outcomes and to verify and validate accuracy of information submitted on the NFLP Annual Performance Reports.

Likely Respondents: NFLP grant recipient schools and applicants to the NFLP program.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Nurse Faculty Loan Program—Program Specific Data Form | 90 | 1 | 90 | 8 | 720
Nurse Faculty Loan Program—Annual Performance Report Financial Data Form | 207 | 1 | 207 | 6 | 1242
Nurse Faculty Loan Program—Due-Diligence Form | 20 | 1 | 20 | 1 | 20
Total Burden | 317 | 3 | 317 | 15 | 1982

Maria G. Button,
Director, Executive Secretariat.

[FR Doc. 2023-04709 Filed 3-7-23; 8:45 am]

BILLING CODE 4165-15-P